INTERNATIONAL TRADE COMMISSION

[Investigation 332-444]

Oil and Gas Field Services: Impediments to Trade and Prospects for Liberalization

AGENCY: International Trade Commission.

ACTION: Rescheduling of public hearing.

EFFECTIVE DATE: August 23, 2002.

SUMMARY: The public hearing on this matter, scheduled for October 1, 2002, has been rescheduled to October 3, 2002. The public hearing will be held at the U.S. International Trade Commission Building, 500 E Street SW., Washington, DC, beginning at 9:30 a.m. on October 3, 2002. All persons will have the right to appear, by counsel or in person, to present information and to be heard. Requests to appear at the public hearing should be filed with the Secretary, United States International Trade Commission, 500 E Street SW., Washington, DC 20436, no later than 5:15 p.m., September 17, 2002. Any prehearing briefs (original and 14 copies) should be filed not later than 5:15 p.m., September 19, 2002; the deadline for filing post-hearing briefs or statements is 5:15 p.m., October 22, 2002. Notice of institution of the investigation and an earlier scheduled hearing date were published in the Federal Register of July 15, 2002 (67 FR 46541). In the event that, at of the close of business on September 17, 2002, no witnesses are scheduled to appear at the hearing, the hearing will be cancelled. Any person interested in attending the hearing as an observer or non-participant may call the Secretary of the Commission (202-205-2000) after September 17, 2002 for information concerning whether the hearing will be held.

FOR FURTHER INFORMATION CONTACT: Information specific to this investigation may be obtained from Joann Tortorice, Project Leader (202-205-3032; jtortorice@usitc.gov), Amanda Horan, Deputy Project Leader (202-205-3459; ahoran@usitc.gov), or Richard Brown, Chief, Services and Investment Division (202-205-3438; rbrown@usitc.gov), Office of Industries, U.S. International Trade Commission, Washington, DC, 20436. For information on the legal aspects of this investigation, contact William Gearhart of the Office of the General Counsel (202-205-3091; wgearhart@usitc.gov). Hearing impaired individuals are advised that information on this matter can be obtained by contacting the TDD terminal on (202) 205-1810.

Persons with mobility impairments who will need special assistance in gaining access to the Commission should contact the Office of the Secretary at 202-205-2000. General information concerning the Commission may also be obtained by accessing its Internet server (http://www.usitc.gov).

List of Subjects: WTO, GATS, oil and gas field services.

Issued: August 26, 2002.
By order of the Commission.
Marilyn R. Abbott,
Secretary to the Commission.

[FR Doc. 02-22114 Filed 8-29-02; 8:58 am]

BILLING CODE 7020-02-P